ENVIRONMENTAL PROTECTION AGENCY

[EPA-R09-OAR-2016-0580; FRL-9953-86-Region 9]

Draft General Permit Under the Federal Indian Country Minor New Source Review Program

AGENCY: United States Environmental Protection Agency (EPA).

ACTION: Notice of draft permit.

SUMMARY: The Environmental Protection Agency (EPA) Region 9 provides notice of, and requests public comment on, the EPA's draft general permit for use in Indian country within California pursuant to the Clean Air Act (CAA) Federal Indian Country Minor New Source Review (NSR) program for new and modified minor sources. The draft general permit is for a single source category, gasoline dispensing facilities (GDFs), and would be available in certain areas of Indian country that are within the geographical boundaries of California. This includes areas located in an Indian reservation or in another area of Indian country over which an Indian tribe, or the EPA, has demonstrated that the tribe has jurisdiction and where there is no EPA-approved minor NSR program in place. The EPA is proposing this general permit as an option for CAA minor NSR preconstruction permitting to help streamline the EPA's permitting of certain minor sources that construct or modify in Indian country and belong to the GDF source category.

DATES: Comments will be accepted until November 30, 2016.

ADDRESSES: Documents relevant to the above-referenced permit are available for public inspection during normal business hours at the following address: U.S. Environmental Protection Agency, Region 9, 75 Hawthorne Street, San Francisco, CA 94105-3901. To arrange for viewing of these documents, call Lisa Beckham at (415) 972-3811. Due to building security procedures, at least 24 hours advance notice is required.

FOR FURTHER INFORMATION CONTACT: Lisa Beckham, EPA Region 9, (415) 972-3811, beckham.lisa@epa.gov. Key portions of the administrative record for this decision are available through a link at Region 9's Web site, https://www.epa.gov/caa-permitting/california-tribal-gasoline-permits, or at www.regulations.gov (Docket ID # EPA-R09-OAR-2016-0580).

SUPPLEMENTARY INFORMATION:

Proposed Action

The United States Environmental Protection Agency, Region 9 (EPA) provides notice of, and requests public comment on, the EPA's draft general permit for use in Indian country within California pursuant to the Clean Air Act (CAA) Federal Indian Country Minor New Source Review (NSR) program for new and modified minor sources at 40 CFR 49.151 through 49.161. The draft general permit is for a single source category, gasoline dispensing facilities (GDFs), and would be available in certain areas of Indian country that are within the geographical boundaries of California. This includes areas located in an Indian reservation or in another area of Indian country (as defined in 18 U.S.C. 1151) over which an Indian tribe, or the EPA, has demonstrated that the tribe has jurisdiction and where there is no EPA-approved minor NSR program in place. The EPA is proposing this general permit as an option for CAA minor NSR preconstruction permitting to help streamline the EPA's permitting of certain minor sources that construct or modify in Indian country and belong to the GDF source category.

A gasoline dispensing facility, or GDF, is any stationary source, such as a gas station, that dispenses gasoline into the fuel tank of a motor vehicle, motor vehicle engine, nonroad vehicle or nonroad engine. Types of GDFs potentially subject to this general permit include, but are not limited to, facilities that dispense gasoline into on- and off-road, street, or highway motor vehicles, lawn equipment, boats, test engines, landscaping equipment, generators, pumps, and other gasoline-fueled engines and equipment. New or modified GDF sources with the potential to emit regulated NSR pollutants over thresholds specified in the Federal Indian Country Minor NSR program regulations at 40 CFR 49.153, and located within the geographic boundaries of California and on an Indian reservation or in another area of Indian country over which an Indian tribe or the EPA has demonstrated that the tribe has jurisdiction, are currently subject to permitting requirements under this EPA minor NSR program.

The general permit that is the subject of this notice is intended to provide a streamlined permitting option for owners and operators of qualifying GDFs to use to meet the requirements of this EPA minor NSR program. However, owners and operators of such GDFs may instead choose to apply to the EPA for a traditional source-specific permit to meet the preconstruction requirements of this permitting program rather than requesting coverage under the general permit.

The primary pollutant of concern for GDFs that may use this general permit is volatile organic compounds (VOC), which are emitted from storage tanks and gasoline dispensing units at GDFs. Some GDFs may also have emergency engines, but only those sources with emergency engines that are exempt from minor NSR permitting requirements may use this general permit. Emissions of all other regulated NSR pollutants from new or modified GDF sources that may use the general permit are expected to be below the minor NSR permitting thresholds in 40 CFR 49.153.

This draft general permit regulates VOC emissions from GDFs, and includes emission limitations that require each GDF to control emissions from storage tanks during unloading of the gasoline cargo from the tanker truck, using what are known as Stage I controls. In addition, the draft general permit requires GDFs in ozone nonattainment areas to limit VOC emissions caused from vehicle refueling by recovering vapors displaced from the vehicle fuel tank, using pump-based controls known as Stage II controls. There are also limits on the amount of gasoline each GDF can dispense in a 12-month period: 25,000,000 million gallons in ozone attainment areas, marginal ozone nonattainment areas, and moderate ozone nonattainment areas; and 15,000,000 gallons in serious, severe, and extreme ozone nonattainment areas. The emission limitations in the draft general permit are expected to limit emissions of VOC from a new or modified GDF to less than 30 tons per year (tpy) in attainment areas and marginal or moderate ozone nonattainment areas and 8 tpy in serious, severe, and extreme ozone nonattainment areas. The detailed emission limitations are included in the draft permit and discussed in detail in our Technical Support Document for this draft permit, and are available for review here: https://www.epa.gov/caa-permitting/california-tribal-gasoline-permits.

Request for Public Comment

Any person may submit written comments on the draft permit during the public comment period. These comments must raise any reasonably ascertainable issue with supporting arguments by the close of the public comment period (including any public hearing). All written comments on the draft general permit must be received or postmarked by November 30, 2016. While the EPA has scheduled a public hearing for this action, as detailed below, anyone may request an additional public hearing. Requests for an additional public hearing must be submitted in writing by November 16, 2016, and must state the nature of the issues proposed to be raised at the hearing. Comments and any requests for public hearings must be sent or delivered in writing to Lisa Beckham at one of the following addresses:

Email: R9airpermits@epa.gov.

Online Docket: www.regulations.gov, Docket ID: EPA-R09-OAR-2016-0580.

U.S. Mail: Lisa Beckham (AIR-3), U.S. EPA Region 9, 75 Hawthorne Street, San Francisco, CA 94105-3901.

Public Hearing

The EPA will hold a public hearing, pursuant to 40 CFR 49.157(c), to provide the public with further opportunity to comment on the draft permit. At the public hearing, any interested person may provide written comments or oral comments, and relevant data pertaining to the draft permit.

The date, time, and location of the public hearing is as follows:

Date: November 30, 2016.

Time: 2:00 p.m.-3:30 p.m.

Location: U.S. EPA Region 9, EPA Conference Center, 1st Floor, 75 Hawthorne St., San Francisco, CA 94105.

If you require a reasonable accommodation, please contact Stacy Johnson, EPA Region 9 Reasonable Accommodations Coordinator, by November 21, 2016 at (415) 947-4500, or johnson.stacyd@epa.gov.

Additional Information

The draft general permit and other supporting information, including the Technical Support Document and a Request for Coverage form, are available through the EPA Region 9 Web site at https://www.epa.gov/caa-permitting/california-tribal-gasoline-permits. The administrative record for this draft general permit may also be viewed in person, Monday through Friday (excluding Federal holidays) from 9:00 a.m. to 4:00 p.m., at the EPA Region 9 address above. Due to building security procedures, please call Lisa Beckham at (415) 972-3911 at least 24 hours in advance to arrange a visit. Lisa Beckham can also be reached through the EPA Region 9's toll-free general information line at (866) 372-9378.

All comments that are received via email or through www.regulations.gov will be included in the public docket without change and will be available to the public, including any personal information provided. Comments submitted to the EPA through U.S. Mail or other another non-electronic delivery method will also be included in the public docket without change and will be available to the public, including any personal information provided, unless the comment includes Confidential Business Information (CBI) or other information the disclosure of which is restricted by statute. Information that is considered to be CBI or otherwise protected should be clearly identified as such and should be submitted only through U.S. Mail or a non-electronic delivery method; such information should not be submitted through www.regulations.gov or email. If a commenter sends email directly to the EPA, the email address will be automatically captured and included as part of the public comment. Please note that an email or postal address must be provided with comments if the commenter wishes to receive direct notification of the EPA's final decision regarding the draft general permit following the public comment period. For the full EPA public comment policy, information about CBI or multimedia submissions, and general guidance on making effective comments, please visit http://www2.epa.gov/dockets/commenting-epa-dockets.

The EPA's Final Action on the Draft Permit

Before issuing a final decision on the draft permit, the EPA will consider all written comments submitted during the public comment period. The EPA will send notice of our final permit decision to each person who submitted comments and contact information during the public comment period or requested notice of the final permit decision. The EPA will summarize the contents of all substantive comments and provide written responses in a document accompanying the EPA's final permit decision.

The EPA's final permit decision will become effective 30 days after the service of notice of the final permit decision, unless:

1. A later date is specified in the permit, or

2. Review of the final permit decision by the EPA's Environmental Appeals Board is requested under 40 CFR 49.159(d), or

3. The EPA elects to make the permit effective immediately upon issuance if no comments request a change in the draft permit or a denial of the permit. Issuance of the final general permit decision, after any administrative review under 40 CFR 49.159(d), is considered final agency action with respect to all aspects of the general permit except its applicability to an individual source. The sole issue that may be appealed after an individual source is approved to construct under a general permit is the applicability of the general permit to that particular source. The letter notifying an individual source of approval or denial under a general permit is considered a final agency action for purposes of judicial review and is not subject to administrative review. All comments related to the proposed permit conditions must be submitted as part of this action, and will not be reconsidered at the time an individual source seeks coverage under the general permit.

If you have questions, or if you wish to obtain further information, please contact Lisa Beckham at (415) 972-3811, toll-free at (866) 372-9378, via email at R9airpermits@epa.gov, or at the mailing address above. If you would like to be added to our mailing list to receive future information about this draft permit decision or other permit decisions issued by the EPA Region 9, please contact Lisa Beckham, or visit the EPA Region 9's Web site at http://www2.epa.gov/caa-permitting/tribal-nsr-permits-region-9.

Please bring the foregoing notice to the attention of all persons who would be interested in this matter.

Dated: September 30, 2016.
Elizabeth J. Adams,
Acting Director, Air Division, Region IX.

[FR Doc. 2016-24380 Filed 10-6-16; 8:45 am]

BILLING CODE 6560-50-P